ENVIRONMENTAL PROTECTION AGENCY

[FRL-6719-5]

Drinking Water Utilities Team; Strategic SDWA Compliance Planning for Small Systems Workshops

AGENCY: Environmental Protection Agency (EPA).

ACTION: Notice; announcement of Workshops on Strategic SDWA Compliance Planning for Small Systems.

SUMMARY: The U.S. Environmental Protection Agency (EPA) has scheduled a series of one-day workshops on “Strategic SDWA Compliance Planning for Small Systems” for consulting engineers, state regulatory agency staff, and other individuals who provide advice or assistance to small water systems. Water system managers and decision-makers are also encouraged to attend. The agency is conducting these workshops in cooperation with the Association of State Drinking Water Administrators, American Consulting Engineers Council, American Water Works Association, National Association of Regulatory Utility Commissioners, National Association of State Utility Consumer Advocates, National Association of Water Companies, National Drinking Water Clearinghouse, National Rural Water Association, Rural Community Assistance Program, and U.S. Department of Agriculture—Rural Utilities Service. One workshop will be offered in each EPA Region. There will be no teleconferencing available at any of these workshops.

The purpose of the workshops is to offer approaches designed to assist small systems in understanding the full range of challenges and opportunities they face in the very near future. Acknowledging the increasing regulatory burden to be faced by small systems, the workshops will cover issues such as: source water supply and protection; existing infrastructure repair and replacement; system organizational structures; new regulations; technologies for compliance; and financial issues. Specific tools and techniques to assist systems in identifying and prioritizing strategic issues and to identify optimum solutions will also be presented.

Included on the agenda for these workshops will be:

Strategic Planning in the 21st Century

Internal System Assessment

• Existing Infrastructure

• Technical, Financial, and Managerial Capacity

Assessing External Challenges

• New Regulations

• Treatment Technology for regulatory compliance

• Source Water Supply

• Competition

Assessing External Opportunities

• Partnerships

• Source Water Protection

• Resources

• Public Awareness

Identifying Options and Determining Optimum Solutions

DATES: All workshops will be held from 8 a.m. to 5 p.m. The schedule for the workshops is as follows:

June 27—DoubleTree Riverfront Hotel, 50 Warren Street, Lowell, MA 01852, Phone #: 978-452-1200; For group rate, must contact hotel by June 12

June 28—Desmond Hotel and Conference Center, Albany, NY 12211, 800-448-3500; For group rate, must contact hotel by June 13

June 29—The Venice Inn, 431 Dual Highway, Hagerstown, MD 21740, Phone #: 301-733-0830; For group rate, must contact hotel by June 15 301-733-0830

July 12—Clarion Hotel, 3601 N. Desert Drive, Atlanta, GA 30344, Phone #: 404-762-5566; For group rate, must contact hotel by June 21

July 13—Radisson Hotel Dallas, 1893 West Mockingbird Lane, Dallas, TX 75235, Phone #: 888-588-9846; For group rate, must contact hotel by June 21

July 26—Radisson Hotel Lincolnwood, 4500 W. Touhy Ave., Lincolnwood, IL 60646, Phone #: 847-677-1234; For group rate, must contact hotel by July 4

July 27—Hilton St. Louis Airport, 10330 Natural Bridge Road, St. Louis, MO 63134, Phone #: 314-426-5500; For group rate, must contact hotel by July 7

August 15—Holiday Inn Denver International Airport, 15500 E. 40th Ave., Denver, CO 80239, Phone #: 303-371-9494; For group rate, must contact hotel by July 15)

August 16—Cathedral Hill Hotel, 1101 Van Ness Ave., San Francisco, CA 94109, Phone #: 800-622-0855 or 415-776-8200; For group rate, must contact hotel by July 18

August 17—Radisson Hotel Seattle Airport, 17001 Pacific Highway, So., Seattle, WA 98188, Phone #: 206-244-6000; For group rate, must contact hotel by July 16

FOR FURTHER INFORMATION CONTACT: To register for any of the workshops, please contact the Safe Drinking Water Act Hotline at 1-800-426-4791. For additional information, please visit our web site at http://www.epa.gov/safewater.html or contact Peter E. Shanaghan, Team Leader, Drinking Water Utilities Team, U.S. EPA, Office of Ground Water and Drinking Water (4606), 1200 Pennsylvania Avenue, NW.,Washington, DC 20460 at 202-260-5813.

Dated: June 13, 2000.
Janet Pawlukiewicz,
Acting Director, Office of Ground Water & Drinking Water.

[FR Doc. 00-15507 Filed 6-19-00; 8:45 am]

BILLING CODE 6560-50-P